NUCLEAR REGULATORY COMMISSION

[Docket No. 50-219]

AmerGen Energy Company, LLC; Oyster Creek Nuclear Generating Station; Environmental Assessment and Finding of No Significant Impact

The U.S. Nuclear Regulatory Commission (NRC or the Commission) is considering issuance of an exemption from Title 10 of the Code of Federal Regulations (10 CFR) part 55, Section 55.59 for Facility Operating License No. DPR-16, issued to AmerGen Energy Company, LLC (AmerGen or the licensee), for operation of the Oyster Creek Nuclear Generating Station (OCNGS), located in Ocean County, New Jersey. As required by 10 CFR 51.21, the NRC is issuing this environmental assessment and finding of no significant impact.

Environmental Assessment

Identification of the Proposed Action

The proposed action would constitute a one-time exemption to allow the current licensed operator requalification program to exceed 24 months. Specifically, it would extend the current licensed operator requalification program, including both the comprehensive requalification written examinations and the operating tests, for a period up to 90 days following resolution of the current strike but not to exceed six (6) months from the end of the current requalification program, i.e., to December 31, 2003. The next requalification program period would begin upon conclusion of the current program and continue to June 30, 2005, with successive periods running for 24 months. The requested exemption from the requirements of 10 CFR Part 55.59, Item (c)(1), applies to both Reactor Operator and Senior Reactor Operator licensed personnel.

The proposed action is in accordance with the licensee's application for exemption dated May 30, 2003.

The Need for the Proposed Action

The proposed action would extend the current OCNGS requalification program from June 30, 2003, to 90 days following resolution of the strike, but no later than December 31, 2003. The proposed action is needed to allow for minimal interruption of the licensed personnel based on scheduling difficulties associated with the current labor strike, which commenced on May 22, 2003. The strike involves bargaining unit employees at OCNGS, including Reactor Operator licensed personnel. Since the beginning of the strike, OCNGS has been operated by Senior Reactor Operator licensed personnel. As a result, both types of licensed personnel are unavailable for the requalification written examinations and operating tests until the strike is over.

Environmental Impacts of the Proposed Action

The NRC completed its evaluation of the proposed action and concludes that there are no significant environmental impacts associated with the extension of the completion date for the operator requalification program from June 30, 2003, to 90 days following resolution of the strike, but no later than December 31, 2003.

The proposed action will not significantly increase the probability or consequences of accidents, it will make no changes to the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. Thus, the environmental impacts of the proposed action and the alternative action are similar.

Alternative Use of Resources

The action does not involve the use of any different resources than those previously considered in the Final Environmental Statement for OCNGS, dated December 1974.

Agencies and Persons Consulted

On June 9, 2003, the NRC staff consulted with the State official, Mr. Rich Pinney of the New Jersey Department of Environment and Natural Resources, regarding the environmental impact of the proposed action. The State official had no comments.

Finding of No Significant Impact

On the basis of the environmental assessment, the Commission concludes that the proposed action will not have a significant effect on the quality of the human environment. Accordingly, the Commission has determined not to prepare an environmental impact statement for the proposed action.

For further details with respect to the proposed action, see the licensee's letter dated May 30, 2003. Documents may be examined, and/or copied for a fee, at the NRC's Public Document Room (PDR), located at One White Flint North, Public File Area at O-1 F21, 11555 Rockville Pike (first floor), Rockville, Maryland. Publicly available records are accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 24th day of June, 2003.
For the Nuclear Regulatory Commission.
Peter S. Tam,
Senior Project Manager, Section 1, Project Directorate 1, Division of Licensing Project Management, Office of Nuclear Reactor Regulation.

[FR Doc. 03-16295 Filed 6-26-03; 8:45 am]

BILLING CODE 7590-01-P